DEPARTMENT OF JUSTICE

National Institute of Corrections

Solicitation for a Cooperative Agreement—“Best Practices in Prison Staffing Analysis”

AGENCY: National Institute of Corrections, Department of Justice.

ACTION: Solicitation for a cooperative agreement.

SUMMARY: The Department of Justice (DOJ), National Institute of Corrections (NIC), announces the availability of funds in FY 2003 for a cooperative agreement to fund the project “Prison Staffing Analysis.” NIC will award a one year cooperative agreement to develop a training program, with accompanying materials, which can be used by state prisons to train their staff on how to conduct a prison staffing analysis; to examine staffing patterns and needs in women's prisons as well as special offender populations, such as units for the mentally ill and chronically ill, and to provide staffing recommendations for these units; and to identity best practices which are used in conducting a prison staffing analysis. A total of $100,000 (direct and indirect costs) is reserved for this project commencing in fiscal year 2003.

A cooperative agreement is a form of assistance relationship where the National Institute of Corrections is substantially involved during the performance of the award. The recipient of the award will be selected through the competitive solicitation process.

DATES: Applications must be received by 4 p.m. Eastern Standard Time on April 25, 2003.

ADDRESSES: Mailed applications must be sent to: Director, National Institute of Corrections, 320 First Street, NW., Room 5007, Washington, DC 20534. Applicants are encouraged to use Federal Express, UPS, or similar service to ensure delivery by the due date as mail at NIC is still being delayed due to extensive screening procedures.

Hand delivered applications should be brought to 500 First Street, NW., Washington, DC 20534. At the front desk, call (202) 307-3106, extension 0 for pickup. Faxed or emailed applications will not be accepted.

FOR FURTHER INFORMATION CONTACT: A copy of this announcement and the required application forms can be downloaded from the NIC Web page at www.nicic.org (Click on “cooperative agreements.”) Hard copies of the announcement can be obtained by calling Rita Rippetoe at 1-800-995-6423 extension 44222 or e-mail rippetoe@bop. gov.

All technical or programmatic questions concerning this announcement should be directed to Madeline Ortiz, National Institute of Corrections. She can be reached by calling 1-800-995-6423 extension 30481 or by e-mail at mmortiz@bop.gov.

SUPPLEMENTARY INFORMATION: Background: The National Institute of Corrections has offered the training program, “Conducting Prison Staffing Analysis,” over the last several years. Many participants have taken numerous ideas from this program back to their home agencies to implement within their institutions. The manuals used in the training programs are available to the field through the NIC Information Center. These manuals will help inform the applicant about the scope of the course work provided through those programs. In addition, the NIC Jails Division has produced a document and e-learning program regarding staffing analysis in jails which may also provide helpful information. The “Staffing Analysis Workbook for Jails” is available on the NIC Web site (http://www.nicic.org; click on “publications” then “jails”). For a CD of the e-learning training “Staffing Analysis for Jails” contact Sharon Floyd, NIC Prisons' Division, at 1-800-995-6423 ext 44072.

In 2002 the National Institute of Corrections' Prisons Division and Information Center conducted a survey of state corrections agencies on the subject of staffing needs and analysis of women's prisons as well as special offender population units, such as for the mentally ill and the chronically ill. The responses varied from state to state, however, the survey identified a clear need for different staffing requirements for these prison populations. Results of this survey will be available after March 15, 2003, on the NIC Web site (http://www.nicic.org).

Numerous changes in the correctional environment, such as budget reductions, changes in the characteristics of the workforce, changes in the demographics and characteristics of the inmate population, have created an even more pronounced need for assessing the current policies and procedures that systems have in place for establishing staffing patterns.

A goal of the Prisons Division is to provide the most current information to correctional managers regarding prison staffing analysis. Included in this project will be the compilation of relevant materials from past programs, the development of new information regarding staffing analysis for women's prisons and special population units, and identification of “best practices” in the field of prison staffing analysis.

Purpose: To develop a training program which can be used by state prisons to train staff how to conduct a staffing analysis, to provide information on staffing analysis in women's prisons and special population units, and to identify “best practices” used in conducting staffing analysis by departments of corrections for state prisons.

Scope of Work: The awardee will research the NIC training materials, examine other sources of information regarding staffing analysis in prisons, and obtain specific information from various adult state and federal correction agencies to complete the following tasks:

1. Identify criteria required to conduct a valid staffing analysis in general male inmate populations, women's prisons populations, and for special populations such as mentally ill and chronically ill.

2. Update the assessment tool used in previous NIC programs as an example, not a model, of a comprehensive tool for assessing a correctional agency's staffing requirements. Examples of assessment instruments from other correctional systems that meet established criteria should also be considered and included in the training material if the awardee thinks advisable.

3. Provide an example, or examples, of staffing assessment instruments that may be used in women's prisons as well as special offender population units, such as for the mentally ill and the chronically ill. This can be done through identifying systems with existing formulas/strategies that meet established criteria, or the awardee may need to develop formulas/strategies.

4. Provide a comprehensive list of the range of issues that a correctional agency should address in their staffing plans. Provide sample policies and procedure that readers could use to improve their own.

5. Identify “best practices” which have been identified from state departments of corrections regarding staffing analysis for various types of offender populations.

6. Develop a training program, with all necessary materials, which can be used by a state prison to train staff on conducting a staffing analysis. The training materials are intended to be used on site at a prison without the necessity of an NIC instructor. The delivery method may include e-learning, self-explanatory course and workbook, in-house trainer delivered content, or other methods as identified by the awardee. The materials must be amenable to delivery on site without outside/consultant expertise.

7. Compile relevant materials from previous NIC training programs and other sources on staffing analysis into a workbook which can be used as part of the developed training program.

8. Identify strategies that could be used to defend appropriate staffing levels in the climate of budget reductions. Case examples where staffing analysis have been used successfully to defend appropriate staffing levels should be included.

Specific Requirements: 1. The applicant must proposed a project team which includes a person(s) with prison staffing analysis expertise and a person(s) with correctional management and operations experience. Documentation of the principal's and all team members relevant knowledge, skills, abilities, and specific experience related to carrying out the described tasks must be included in the application.

2. The person designated as project director must be the person who will manage the project on a day-to-day basis and who has full decision making authority to work with the NIC project manager. This person must have enough time dedicated to the project to assure they are available to direct the day-to-day activities of the project and to be available for collaboration with the NIC project manager.

3. Applicants should identify in the proposal specific strategies for assuring a collaborative effort between their project team and NIC. Specific examples of successful collaboration with NIC or other agencies will be helpful. The requirement, in federal law and policy, that NIC/the government agency be “substantially involved” in all aspects of the project work needs to be addressed in the proposal.

Application Requirements: Applications must be submitted using OMB Standard Form 424, Federal Assistance, and attachments. (Copies can be downloaded from the NIC Web page at http:www.nicic.org/service/coop/default.htm.) The applications should be concisely written, typed double-spaced and refer to the project by the “NIC Application Number;” and Title in this announcement.

Submit an original and six copies. The original should have the applicant's signature in blue ink. A cover letter must identify the responsible audit agency for the applicant's financial accounts.

The narrative portion of this cooperative agreement application should include, at a minimum:

1. A brief paragraph indicating the applicant's understanding of the purpose of this cooperative agreement;

2. One or more paragraphs detailing the applicants understanding of the history of and need for doing staffing analysis in prisons;

3. A brief paragraph summarizing the project goals and objectives;

4. A clear description of the methodology for project completion and achievement of its goals;

5. A clearly developed Project Plan which demonstrates how and when the various goals and objectives of the project will be achieved through its various activities so as to produce the required results;

6. A chart of measurable project milestones and time lines for the completion of each milestone;

7. A description of the qualifications of the applicant organization and each project staff direct experience in conducting staffing analysis should be highlighted;

8. A description of the staffing plan for the project, including the role of each project staff, the percentage of the time commitment for each (in days), the relationship among the staff (who reports to whom), and a statement from individual staff that they will be available to work on this project and meet the required level of experience.

9. A budget detailing all costs for the project, shows consideration for all contingencies for this project, and notes a commitment to work within the budget proposed. The budget should be divided into object class categories as shown on application Standard Form 424A. A budget narrative must be included which explains how all costs were determined.

Authority: Public Law 93-415.

Funds Available: The award will be limited to a maximum of $100,000 (direct and indirect costs). Funds may only be used for the activities that are linked to the desired outcome of the project. No funds are transferred to state or local governments. This project will be a collaborative venture with the NIC Prisons Division.

Eligibility of Applicants: An eligible applicant is any state or general unit of local government, private agency, educational institution, organization, individuals or team with expertise in the requested areas in order to successfully meet the objectives of this project.

Review Considerations: Applications received under this announcement will be subject to a 3- to 5-member Peer Review Process.

Number of Awards: One (1).

NIC Application Number: 03P25. This number should appear as a reference line in the cover letter, in box 11 of Standard Form 424, and on the outside of the envelope in which the application is sent.

Catalog of Federal Domestic Assistance Number is: 16.601, Title: Training and Staff Development.

Executive Order 12372: This program is not subject to the provisions of Executive Order 12372.

Dated: March 3, 2003.
Morris L. Thigpen,
Director, National Institute of Corrections.

[FR Doc. 03-5525 Filed 3-6-03; 8:45 am]

BILLING CODE 4410-36-M